DEPARTMENT OF HEALTH AND HUMAN SERVICES

National Institutes of Health

National Institute of Environmental Health Sciences; Amended Notice of Meeting

Notice is hereby given of a change in the meeting of the National Institute of Environmental Health Sciences Special Emphasis Panel, November 17, 2002, 7:30 p.m. to November 20, 2002, 5 p.m., which was published in the Federal Register on September 27, 2002, 67 FR 61144.

The meeting will be held on January 15-17, 2003 beginning at 8 a.m., instead of on November 17, 2002, as previously advertised. The meeting is closed to the public.

Dated: November 15, 2002.
LaVerne Y. Stringfield,
Director, Office of Federal Advisory Committee Policy.

[FR Doc. 02-29843 Filed 11-22-02; 8:45 am]

BILLING CODE 4140-01-M